FEDERAL COMMUNICATIONS COMMISSION

47 CFR Part 73

[DA 02-2505, MM Docket No. 01-244, RM-10234, and MM Docket No. 01-245, RM-10235]

Digital Television Broadcast Service; Tyler and Lufkin, TX

AGENCY: Federal Communications Commission.

ACTION: Final rule.

SUMMARY: The Commission, at the request of Civic License Holding Company, Inc., substitutes DTV channel 10 for DTV channel 38 at Tyler, Texas; and substitutes DTV channel 11 for DTV channel 43 at Lufkin, Texas. See 66 FR 48852, September 24, 2001; and 66 FR 48851, September 24, 2001. DTV channels 10 and 11 can be allotted to Tyler and Lufkin, Texas, respectively, in compliance with the principle community coverage requirements of Section 73.625(a). DTV channel 10 is allotted at coordinates 32-32-23 N. and 95-13-12 W. with a power of 7, HAAT of 302 meters and with a DTV service population of 213 thousand. DTV channel 11 is allotted at coordinates 31-25-09 N. and 94-48-03 W. with a power of 9.25, HAAT of 204 meters and with a DTV service population of 622 thousand. With this action, this proceeding is terminated.

DATES: Effective November 25, 2002.

FOR FURTHER INFORMATION CONTACT: Pam Blumenthal, Media Bureau, (202) 418-1600.

SUPPLEMENTARY INFORMATION: This is a synopsis of the Commission's Report and Order, MM Docket No. 01-244 and MM Docket No. 01-245, adopted October 2, 2002, and released October 9, 2002. The full text of this document is available for public inspection and copying during regular business hours in the FCC Reference Information Center, Portals II, 445 12th Street, SW., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Texas, is amended by removing DTV channel 43 and adding DTV channel 11 at Lufkin.

3. Section 73.622(b), the Table of Digital Television Allotments under Texas, is amended by removing DTV channel 38 and adding DTV channel 10 at Tyler.

Federal Communications Commission.
Barbara A. Kreisman,
Chief, Video Division, Media Bureau.

[FR Doc. 02-26235 Filed 10-15-02; 8:45 am]

BILLING CODE 6712-01-P